FEDERAL COMMUNICATIONS COMMISSION

Public Information Collections Approved by the Office of Management and Budget

April 9, 2010.

SUMMARY: The Federal Communications Commission has received Office of Management and Budget (OMB) approval for the following public information collection(s) pursuant to the Paperwork Reduction Act of 1995 (44 U.S.C. 3501-3520). An agency may not conduct or sponsor a collection of information unless it displays a currently valid OMB control number, and no person is required to respond to a collection of information unless it displays a currently valid OMB control number. Comments concerning the accuracy of the burden estimate(s) and any suggestions for reducing the burden should be directed to the person listed in the FOR FURTHER INFORMATION CONTACT section below.

DATES: Persons wishing to comment on this information collection should submit comments by June 15, 2010. If you anticipate that you will be submitting comments, but find it difficult to do so within the period of time allowed by this notice, you should advise the contact listed below as soon as possible.

ADDRESSES: Direct all PRA comments to Nicolas A. Fraser, Office of Management and Budget (OMB), Room 10236 NEOB, Washington, DC 20503, (202) 395-5887, or via fax at 202-395-5167, or via the Internet at nfraser@omb.eop.gov, and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control Number: 3060-1136.

OMB Approval Date: 03/29/2010.

Expiration Date: 09/30/2010.

Title: Spectrum Dashboard Customer Feedback.

Form No.: N/A.

Estimated Annual Burden: 22,000 responses; .05 hours per response; 1,100 hours total per year.

Obligation To Respond: Voluntary.

Nature and Extent of Confidentiality: There is no need for confidentiality.

Needs and Uses: The Commission will use the Spectrum Dashboard Customer Feedback to obtain voluntary feedback from the wide range of stakeholders who will use the Spectrum Dashboard (e.g., individuals, licensees, manufacturers, entrepreneurs, industry analysts, regulators, and policy makers). In this regard, the Commission plans to keep the public engaged in an open and transparent dialogue regarding the utility of the software.

The Commission will use the information collected to help determine future improvements and enhancements to the Spectrum Dashboard.

Federal Communications Commission.
Marlene H. Dortch,
Secretary.

[FR Doc. 2010-8768 Filed 4-15-10; 8:45 am]

BILLING CODE 6712-01-P